DEPARTMENT OF THE INTERIOR

Bureau of Indian Affairs

Indian Gaming

AGENCY: Bureau of Indian Affairs, Interior.

ACTION: Notice of approved Tribal-State Compacts.

SUMMARY: Under Section 11 of the Indian Gaming Regulatory Act of 1988 (IGRA), Public Law 100-497, 25 U.S.C. 2710, the Secretary of the Interior shall publish, in the Federal Register, notice of approved Tribal-State Compacts for the purpose of engaging in Class III gaming activities on Indian lands. The Assistant Secretary—Indian Affairs, Department of the Interior, through her delegated authority, has approved the Tribal-State Compacts between the Ak-Chin Community, Cocopah Indian Tribe, Fort McDowell Yavapai Nation, Fort Mojave Indian Tribe, Gila River Indian Community, Hualapai Indian Tribe, Havasupai Indian Tribe, Kaibab Band of Paiute Indians, Navajo Nation, Pascua Yacqui Tribe, Quechan Indian Tribe, Salt River Prima-Maricopa Indian Community, San Carlos Apache Tribe, Tohono O'odham Nation, Tonto Apache Tribe, White Mountain Apache Tribe, and Yavapai-Apache Nation and the State of Arizona.

EFFECTIVE DATE: February 5, 2003.

FOR FURTHER INFORMATION CONTACT: George T. Skibine, Director, Office of Indian Gaming Management, Bureau of Indian Affairs, Washington, DC 20240, (202) 219-4066.

Dated: January 24, 2003.
Aurene M. Martin,
Acting Assistant Secretary—Indian Affairs.

[FR Doc. 03-2787 Filed 2-4-03; 8:45 am]

BILLING CODE 4310-4N-M